TENNESSEE VALLEY AUTHORITY

Agency Information Collection Activities: Proposed Collection; Comment Request

AGENCY: Tennessee Valley Authority (TVA).

ACTION: 60-Day notice of submission of information collection approval and request for comments.

SUMMARY: The proposed information collection described below will be submitted to the Office of Management and Budget (OMB) for review, as required by the Paperwork Reduction Act of 1995. The Tennessee Valley Authority is soliciting public comments on this proposed collection.

DATES: Comments should be sent to the Public Information Collection Clearance Officer no later than October 10, 2023.

ADDRESSES: Requests for information, including copies of the information collection proposed and supporting documentation, should be directed to the Public Information Collection Clearance Officer: Jennifer A. Wilds, Specialist, Records Compliance, Tennessee Valley Authority, 400 W Summit Hill Dr., CLK-320, Knoxville, Tennessee 37902-1401.

FOR FURTHER INFORMATION CONTACT: Jennifer A. Wilds, Telephone (865) 632-6580 or by email at pra@tva.gov.

SUPPLEMENTARY INFORMATION:

Type of Request: New collection.

Title of Information Collection: TVA CUI Program Challenge Request Form.

Frequency of Use: On occasion.

Type of Affected Public: Authorized holders, including any individual or organization who has been provided with CUI and has a lawful government purpose to possess CUI.

Small Businesses or Organizations Affected: No.

Federal Budget Functional Category Code: 455.

Estimated Number of Annual Responses: 12.

Estimated Total Annual Burden Hours: 18.

Estimated Average Burden Hours per Response: 1.5.

Need For and Use of Information: The TVA CUI Program Challenge Request Process, also referred to as the “CUI Challenge Request Process” in this document, provides the process used for TVA Controlled Unclassified Information (CUI) authorized holders to challenge the designation of information that has been marked as CUI as improperly or incorrectly designated government purpose to possess the information. Any authorized holder who believes that the designation of specific information as CUI is improper or incorrect, or who believes they have received unmarked CUI, may use this process to formally notify TVA CUI Senior Agency Official (SAO). The process also allows for TVA CUI SAO and CUI Program Manager to process such requests and to issue a Final Decision from the CUI SAO.

The CUI Challenge Request Process is not intended to be used to address all disagreements regarding the proper designation of CUI. Authorized holders are encouraged to seek or utilize less formal means when resolving internal good faith disputes over the proper designation of information as CUI, such as discussion with the creator or designator of the information in dispute. Where resolution cannot be achieved through less formal means, the CUI challenge request process is available.

The CUI Challenge Request Process does not supersede any obligations under law or TVA policy to report information spills.

Rebecca L. Coffey,
Agency Records Officer.

[FR Doc. 2023-17091 Filed 8-9-23; 8:45 am]

BILLING CODE 8120-08-P